SMALL BUSINESS ADMINISTRATION

[Disaster Declaration #20645 and #20646; LOUISIANA Disaster Number LA-20005]

Presidential Declaration Amendment of a Major Disaster for the State of Louisiana

AGENCY: U.S. Small Business Administration.

ACTION: Amendment 1.

SUMMARY: This is an amendment of the Presidential declaration of a major disaster for the State of Louisiana (FEMA-4817-DR), dated 09/16/2024.

Incident: Hurricane Francine.

Incident Period: 09/09/2024 through 09/12/2024.

DATES: Issued on 09/23/2024.

Physical Loan Application Deadline Date: 11/18/2024.

Economic Injury (EIDL) Loan Application Deadline Date: 06/16/2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of Louisiana, dated 09/16/2024, is hereby amended to include the following areas as adversely affected by the disaster:

Primary Parishes (Physical Damage and Economic Injury Loans): Jefferson.

Contiguous Parishes (Economic Injury Loans Only):

Louisiana: Orleans, Plaquemines, St. Tammany.

All other information in the original declaration remains unchanged.

(Catalog of Federal Domestic Assistance Number 59008)

Francisco Sánchez, Jr.,
Associate Administrator, Office of Disaster Recovery & Resilience.

[FR Doc. 2024-22283 Filed 9-27-24; 8:45 am]

BILLING CODE 8026-09-P